DEPARTMENT OF COMMERCE

National Oceanic and Atmospheric Administration

Agency Information Collection Activities; Submission to the Office of Management and Budget (OMB) for Review and Approval; Comment Request; U.S. Territorial Catch and Fishing Effort Limits

AGENCY: National Oceanic and Atmospheric Administration (NOAA), Commerce.

ACTION: Notice of information collection, request for comment.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment preceding submission of the collection to OMB.

DATES: To ensure consideration, comments regarding this proposed information collection must be submitted on or before March 21, 2022.

ADDRESSES: Interested persons are invited to submit written comments to Adrienne Thomas, NOAA PRA Officer, at NOAA.PRA@noaa.gov. Please reference OMB Control Number 0648-0689 in the subject line of your comments. Do not submit Confidential Business Information or otherwise sensitive or protected information.

FOR FURTHER INFORMATION CONTACT: Requests for additional information or specific questions related to collection activities should be directed to Keith Kamikawa, Fishery Management Specialist, NMFS Pacific Islands Regional Office, (808) 725-5177, keith.kamikawa@noaa.gov.

SUPPLEMENTARY INFORMATION:

I. Abstract

This request is for extension of a currently approved information collection.

The Magnuson-Stevens Fishery Conservation and Management Act (Magnuson-Stevens Act) established the Western Pacific Fishery Management Council (Council) to develop fishery ecosystem plans (FEP) for fisheries in the U.S. Exclusive Economic Zone and high seas of the Pacific Islands region. If approved by the Secretary of Commerce, NMFS implements these FEPs in Federal regulations. FEPs and these regulations manage fishing to prevent overfishing and to ensure the long-term productivity and social and economic benefit of the resources.

Under the authority of the Magnuson-Stevens Act, regulations at 50 CFR 665.819 allow the Council to recommend and NMFS to implement catch or fishing effort limits for pelagic fisheries in the Territory of American Samoa, the Territory of Guam, and the Commonwealth of the Northern Mariana Islands (CNMI) (hereinafter, “territory” or “territories”). The regulations further allow NMFS to authorize the government of each territory to allocate a portion of its catch or fishing effort limit to U.S. fishing vessels permitted under an FEP through specified fishing agreements between the vessels and the respective territories. Payments made under these agreements support fisheries development in the territories.

A specified fishing agreement provides access to an identified portion of catch or fishing effort limit and may not exceed the limit specified for the territory and that NMFS has made available for allocation. The identified portion of catch or fishing effort limit in an agreement must account for recent and anticipated harvest on the fish stock or stock complex or fishing effort, and any other valid agreements with the territory during the same year not to exceed the territory's catch or fishing effort limit or allocation limit.

II. Method of Collection

Each participating territory may submit a complete specified fishing agreement for review by the Council and review and approval by NMFS (see 50 CFR 665.819(c)). The agreement must: (i) Identify the vessels and document that each fishing vessel has a valid permit issued under 50 CFR 665.801; (ii) identify the limit on catch of western Pacific pelagic management unit species, if applicable; (iii) identify the limit on fishing effort, if applicable; (iv) be signed by an authorized official of the participating territory or designated representative; and (v) be signed by each vessel owner or designated representative. There is no form for an agreement. Agreements may be submitted by mail, fax, or secure email.

III. Data

OMB Control Number: 0648-0689.

Form Number(s): None.

Type of Review: Regular submission (extension of a current information collection).

Affected Public: Individuals or households; Business or other for-profit organizations; State, Local, or Tribal governments.

Estimated Number of Respondents: 3.

Estimated Time per Response: 30 hours per agreement, 2 hours per appeal.

Estimated Total Annual Burden Hours: 90.

Estimated Total Annual Cost to Public: $4,885.20.

IV. Request for Comments

We are soliciting public comments to permit the Department to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-01005 Filed 1-19-22; 8:45 am]

BILLING CODE 3510-22-P